DEPARTMENT OF HEALTH AND HUMAN SERVICES

Administration for Children and Families

Proposed Information Collection Activity; Income Withholding for Support Order (OMB No.: 0970-0154)

AGENCY: Office of Child Support Enforcement, Administration for Children and Families, Department of Health and Human Services.

ACTION: Request for public comments.

SUMMARY: The Office of Child Support Enforcement (OCSE), Administration for Children and Families (ACF), is requesting the federal Office of Management and Budget (OMB) to extend approval of the Income Withholding for Support Order (IWO), with minor changes, for an additional 3 years. The current OMB approval expires September 30, 2023.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. All requests should be identified by the title of the information collection.

SUPPLEMENTARY INFORMATION:

Description: The IWO is the required, standard form used to order, and notify, employers and income providers to withhold child support payments from an obligor's income. It is also used to notify employers and other income providers where to remit the payments, as well as other information needed to correctly withhold payments so that children and families receive the support to which they are entitled.

The IWO form instructions underwent minor edits to clarify the language and improve the respondent's ability to properly complete the IWO Form. The burden estimates changed to reflect current estimates for the annual number of respondents and responses.

Respondents: Courts, private attorneys, custodial parties or their representatives, employers, and other entities that provide income to noncustodial parents.

Annual Burden Estimates
Information collection instrument | Total annual number of respondents | Total annual number of responses per respondent | Average burden hours per response | Total annual burden hours
Income withholding order/notice (Courts, private attorneys, custodial parties or their representatives) | 4,694,517 | 1 | 5 minutes | 391,210
Income withholding orders/termination of employment/income status (Employers and other income providers) | 1,277,952 | 8.01 | 2 minutes | 341,213
Electronic income withholding orders/termination of employment/income status (Employers and other income providers) | 33,746 | 67.70 | 30 seconds | 19,038

Estimated Total Annual Burden Hours: 751,461.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 666(a)(1), (a)(8), and (b)(6).

John M. Sweet, Jr.,
ACF/OPRE Certifying Officer.

[FR Doc. 2023-01130 Filed 1-20-23; 8:45 am]

BILLING CODE 4184-41-P